NATIONAL AERONAUTICS AND SPACE ADMINISTRATION

Notice of Agency Report Forms Under OMB Review

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This information is required to monitor contract compliance in support of NASA's mission and in response to procurement requirements.

DATES: All comments should be submitted on or before April 6, 2001.

ADDRESSES: All comments should be addressed to Mr. Michael Battaglia, Code R, National Aeronautics and Space Administration, Washington, DC 20546-0001.

FOR FURTHER INFORMATION CONTACT: Ms. Nancy Kaplan, NASA Reports Officer, (202) 358-1372.

Title: AST-Technology Utilization.

OMB Number: 2700-0009.

Type of review: Extension.

Need and Uses: NASA is required to collect, and NASA contractors/recipients performing research and development are required to actively search for, identify, and report promptly all new technologies (i.e., “inventions, discoveries, improvements, and innovations”) resulting from work performed under such contracts and agreements.

Affected Public: Business or other for-profit, Not-for-profit institutions.

Number of Respondents: 372.

Responses Per Respondent: 2.5.

Annual Responses: 930.

Hours Per Request: ¾ to 1 hour.

Annual Burden Hours: 895.

Frequency of Report: Annually.

David B. Nelson,
Deputy Chief Information Officer, Office of the Administrator.

[FR Doc. 01-2942 Filed 2-2-01; 8:45 am]

BILLING CODE 7510-01-P